DEPARTMENT OF COMMERCE

National Oceanic and Atmospheric Administration

50 CFR Parts 600 and 660

[I.D. 080601E]

Fisheries Off West Coast States and in the Western Pacific; Pacific Coast Groundfish Fishery; Application for an Exempted Fishing Permit

AGENCY: National Marine Fisheries Service (NMFS), National Oceanic and Atmospheric Administration (NOAA), Commerce.

ACTION: Notice of receipt of an application for an exempted fishing permit (EFP); request for comments.

SUMMARY: NMFS announces receipt of an application for an EFP from the California Department of Fish and Game. The EFP application applies to vessels with valid California state delivery permits fishing for chilipepper rockfish with small footrope trawl gear south of 40 °10′ N. lat. If awarded, the EFP would allow federally managed groundfish species to be landed in excess of cumulative trip limits and a portion of the chilipepper rockfish caught to be sold for profit, providing the vessels carry state-sponsored observers. Observers would collect data that are otherwise not available. This EFP proposal is intended to promote the objectives of the Pacific Coast Groundfish Fishery Management Plan (FMP) by providing data that can be used to enhance management of the groundfish fishery.

DATES: Comments must be received by October 1, 2001.

ADDRESSES: Copies of the EFP application are available from Becky Renko Northwest Region, NMFS, 7600 Sand Point Way N.E., Bldg. 1, Seattle, WA 98115-0070.

FOR FURTHER INFORMATION CONTACT: Becky Renko 206-526-6140.

SUPPLEMENTARY INFORMATION: This action is authorized by the FMP and implementing regulations at 50 CFR 600.745 and 50 CFR 660.350.

At the June 2001 Pacific Fishery Management Council (Council) meeting, the State of California presented NMFS with an EFP application. The primary purpose of the exempted fishing activity would be to measure bycatch rates of bocaccio and other rockfish species associated with the small footrope chilipepper trawl fishery in Federal waters south of 40 °10′ N. lat. Fishing for chilipepper rockfish, which is an abundant and commercially important species off California, is constrained south of 40O10' N. lat. by efforts to rebuild bocaccio, an overfished rockfish species. Fishers believe that the small footrope trawl fishery for chilipepper rockfish can be prosecuted with a much lower rockfish bycatch rate than is currently assumed.

If issued, this EFP will allow participating vessels to retain and sell for profit, chilipepper rockfish up to 25,000 lbs (11.34 mt) per month. Once a vessel has harvested a specified portion of its bocaccio trip limit, it may no longer fish for and land chilipepper rockfish. All other incidentally caught species would also continue to be counted against the individual vessel’s cumulative trip limits. Vessels fishing under the EFP would be required to retain all rockfish (Sebastes and Sebastolobus). Proceeds from the sale of rockfish that are in excess of each vessel’s trip limits will be forfeited to the State of California. Requiring the retention of all rockfish is expected to provide information to evaluate the broader application of a full retention program in the groundfish fleet. Observer data collected during this project are expected to benefit the management of the groundfish fishery by: (1) providing information on catch rates of incidentally caught species, including bocaccio rockfish, by fishing location, (2) allowing for the collection of biological data that is otherwise not available from landed catch, and (3) providing data that can be used to evaluate the full retention of rockfish as a management measure. If the EFP is issued, approximately 30 vessels would be eligible to participate under this EFP because of their historic participation in this fishery. Up to five vessels may operate under this permit at any one time. The fishing periods identified in the EFP are proposed for May through September, 2002.

In accordance with regulations at 50 CFR 600.745 and 660.306 (f), NMFS has determined that the proposal warrants further consideration and consulted with the Council. The Council considered the EFP application during its June 11-15, 2001, meeting and recommended that NMFS issue the EFP. A copy of the application is available for review from NMFS (see ADDRESSES). Regulations issued under the Magnuson-Stevens Fishery Conservation and Managmeent Act require publication of this notification to provide interested parties the opportunity to comment on applications for proposed EFPs. Based on the outcome of this EFP, this action may lead to further rulemaking.

Authority: 16 U.S.C. 1801 et seq.

Dated: August 24, 2001.
Dean Swanson,
Acting Director, Office of Sustainable Fisheries, National Marine Fisheries Service.

[FR Doc. 01-21950 Filed 8-29-01; 8:45 am]

BILLING CODE 3510-22-S